DEPARTMENT OF LABOR

Mine Safety and Health Administration

Proposed Information Collection Request, Submitted for Public Comment and Recommendations; Mine Operator Dust Cards

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(c)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR sections 70.209, 71.209, and 90.209—Mine Operator Dust Data Card; 70.201(c), 71.201(c), 90.201(c)—Reporting Operator Sampling Dates; 70.202(b), 71.202(b), and 90.202(b)—Dust Sampling Certification; 70.220(a), 71.220(a), and 90.220(a)—Reporting Status Changes; and 71.300, 71.301(d), 90.300, and 90.301(d)—Respirable Dust Control Plan.

DATES: Submit comments on or before February 18, 2003.

Addresses: Send comments to Jane Tarr, Manaagement Analyst, Administration and Management 1100 Wilson Boulevard, Room 2171, Arlington, VA 22209-3939. Commenters are encouraged to send their comments on computer disk, or via Internet e-mail to Tarr-Jane@Msha.Gov. Ms. Tarr can be reached at (202) 693-9824 (voice), or (202) 693-9801 (facsimile).

FOR FURTHER INFORMATION CONTACT: Jane Tarr, Management Analyst, Records Management Group, U.S. Department of Labor, Mine Safety and Health Administration, Room 2171, 1100 Wilson Boulevard, Arlington, VA 22209-3939. Ms. Tarr can be reached at Tarr-Jane@Msha.Gov (Internet E-mail), (202) 693-9824 (voice), or (202) 693-9801 (facsimile).

SUPPLEMENTARY INFORMATION:

I. Background

30 CFR, 70.201(c), 71.201(c), and 90.201(c), authorizes the District Manager to require the mine operator to submit and dates(s) when sampling will begin. Only a certified person is allowed to conduct the respirable dust sampling required by these parts.

Sections 70.202(b), 71.202(b), and 90.202(b), requires that the person must pass the MSHA examination on sampling of respirable coal mine dust.

Sections 70.220(a), 71.220(a), requires the operator to report status changes to MSHA in writing within 3 working days after the status change has occurred.

Sections 70.209, 71.209, and 90.209, requires persons who are certified by MSHA to take respirable dust samples to complete the dust data card that accompanies each sample being submitted for analysis.

Sections 71.300 and 90.300 require a coal mine operator to submit to MSHA for approval a written respirable dust control plan with 15 calendar days after the termination data of a citation for violation of the applicable dust standard.

Section 71.301(d) requires the respirable dust control plan to be posted on the mine bulletin board however, 90.301(d) prohibits posting of the dust control plan for P-90 miners and, instead, requires a copy be provided to the affected P-90 miner.

II. Desired Focus of Comments

MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of the appropriate automated, electronic, mechanical, or other technologies collection techniques or other forms of information technology, e.g., permitting electronic submissions of responses.

A copy of the proposed information collection request can be obtained by contacting the employee listed in the For Further Information Contact section of this notice, or viewed on the Internet by accessing the MSHA Home Page (http://www.msha.gov) and then choosing “Statutory and Regulatory Information” and “Federal Register Documents.”

III. Current Actions

The information provided by the mine operator on the dust data card that accompanies each dust sample, the reporting of when such samples will be collected to allow MSHA to observe the actual collection, and the reporting of any changes in operation status affecting sampling, is vital to effectively administer the operator sampling program. This allows MSHA to determine not only whether mine operators have compiled with the sampling requirements stipulated in the regulations but also which operators were in noncompliance with the applicable dust standard. After processing, results are reported back to mine operators for posting on the mine bulletin board and viewing by miners. MSHA also uses this information to plan enforcement activities and evaluate programs.

Type of Review: Extension.

Agency: Mine Safety and Health Administration.

Title: Mine Operator Dust Cards.

OMB Number: 1219-0011.

Recordkeeping: 30 CFR, 70.201(c), 71.201(c), and 90.201(c), authorizes the District Manager to require the mine operator to submit the dates(s) when sampling will begin. Only a certified person is allowed to conduct the respirable dust sampling required by these parts.

Sections 70.202(b), 71.202(b), and 90.202(b), require that the person must pass the MSHA examination on sampling of respirable coal mine dust.

Sections 70.220(a), 71.220(a), and 90.220(a), require the operator to report status changes to MSHA in writing within 3 working days after the status change has occurred.

Sections 70.209, 71.209, and 90.209, require persons who are certified by MSHA to take respirable dust samples to complete the dust data card that accompanies each sample being submitted for analysis.

Sections 71.300 and 90.300 require a coal mine operator to submit to MSHA for approval a written respirable dust control plan with 15 calendar days after the termination date of a citation for violation of the applicable dust standard.

Section 71.301(d) requires the respirable dust control plan to be posted on the mine bulletin board however, 90.301(d) prohibits posting of the dust control plan for P-90 miners and, instead, requires a copy be provided to the affected P-90 miner.

Frequency: On occasion.

Affected Public: Business or other for-profit.

Section | Total respondents | Total responses | Avg. time/response | Burden hours
70.209 | 1,911 | 36,000 | .83 | 29,998
71.209 |  |  |  |
90.209 |  |  |  |
(submit) |  |  |  |
70.209 | 1,911 | 50,200 | .17 | 8,534
71.209 |  |  |  |
90.209 |  |  |  |
(monitor) |  |  |  |
70.201(c) | 1,911 | 630 | 1 | 630
71.201(c) |  |  |  |
90.201(c) |  |  |  |
70.202(b) |  | 182 | 8 | 1,456
71.201(b) |  |  |  |
90.201(b) |  |  |  |
(Train and Test) |  |  |  |
70.202(b) | 1,911 | 48 | 1.5 | 72
71.201(b) |  |  |  |
90.201(b) |  |  |  |
(Test only) |  |  |  |
70.220(a) | 1,911 | 3,200 | .5 | 1,600
71.220(a) |  |  |  |
90.220(a) |  |  |  |
71.300 | 1,900 | 40 | 3 | 120
(new) |  |  |  |
71.300 | 1,900 | 5 | 1.2 | 6
(revised) |  |  |  |
71.300 |  | N/a |  | 8
(copy & mail) |  |  |  |
71.301(d) | 1,900 | 45 | .24 | 11
90.300 | 1,900 | 4 | 3 | 12
(new) |  |  |  |
90.300 | 1,900 | 2 | 1.5 | 3
(revised) |  |  |  |
90.300 |  | N/a |  | 1
(copy & mail) |  |  |  |
90.301(d) | 1,900 | 6 | .33 | 2
Total | 1,900 | 90,362 |  | 42,453

Total Burden Cost (capital/startup): $990,887.

Total Burden Cost (operation/maintaining): $2,136,598.

Comments submitted in response to this notice will be summarized and/or included in the request for Office of Management and Budget approval of the information collection request; they will also become a matter of public record.

Dated at Arlington, Virginia, this 11th day of December, 2002.
David L. Meyer,
Director, Office of Administration and Management.

[FR Doc. 02-31765 Filed 12-17-02; 8:45 am]

BILLING CODE 4510-43-M